ENVIRONMENTAL PROTECTION AGENCY

40 CFR Part 63

[NC-112L-2004-1-FRL-7646-3]

Approval of Section 112(l) Authority for Hazardous Air Pollutants; Equivalency by Permit Provisions; National Emission Standards for Hazardous Air Pollutants From the Pulp and Paper Industry; State of North Carolina

AGENCY: Environmental Protection Agency (EPA).

ACTION: Proposed rule.

SUMMARY: On August 26, 2003, the EPA published in the Federal Register a direct final rule to approve the North Carolina Department of Environment and Natural Resources (NC DENR) equivalency by permit program, pursuant to section 112(l) of the Clean Air Act, to implement and enforce State permit terms and conditions that substitute for the National Emission Standards for Hazardous Air Pollutants from the Pulp and Paper Industry and the National Emission Standards for Hazardous Air Pollutants for Chemical Recovery Combustion Sources at Kraft, Soda, Sulfite and Stand-Alone Semi-chemical Pulp Mills, for the International Paper Riegelwood mill in Riegelwood, North Carolina. Today's action is taken to amend the approval of NC DENR's section 112(l) authority for hazardous air pollutants, equivalency by permit provisions, in order to extend its coverage to include the following four mills: International Paper Roanoke Rapids mill in Roanoke Rapids, North Carolina; Blue Ridge Paper Products in Canton, North Carolina; Weyerhaeuser New Bern facility in New Bern, North Carolina; and the Weyerhaeuser Plymouth facility in Plymouth, North Carolina. In the Rules section of this Federal Register, EPA is granting NC DENR the authority to implement and enforce alternative requirements in the form of title V permit terms and conditions for the additional four North Carolina mills, after EPA has approved the state's alternative requirements. A detailed rationale for this approval is set forth in the final rule amendment. If no significant, material, and adverse comments are received in response to this rule, no further activity is contemplated. If EPA receives adverse comments, the final rule amendment will be withdrawn and all public comments received will be addressed in a subsequent final rule based on this rule. The EPA will not institute a second comment period on this document. Any parties interested in commenting on this document should do so at this time.

DATES: Written comments must be received on or before May 12, 2004.

ADDRESSES: Comments may be submitted by mail to: Lee Page, Air Toxics Assessment and Implementation Section, Air Toxics and Monitoring Branch, Air, Pesticides and Toxics Management Division; U.S. Environmental Protection Agency Region 4; 61 Forsyth Street, SW., Atlanta, Georgia 30303-8960. Comments may also be submitted electronically, or through hand delivery/courier. Please follow the detailed instructions described in the final rule amendment, SUPPLEMENTARY INFORMATION section [Part (I)(B)(1)(i) though (iii)] which is published in the Rules Section of this Federal Register.

FOR FURTHER INFORMATION CONTACT: Lee Page, Air Toxics Assessment and Implementation Section, Air Toxics and Monitoring Branch, Air, Pesticides and Toxics Management Division, Region 4, U.S. Environmental Protection Agency, 61 Forsyth Street, SW., Atlanta, Georgia 30303-8960. The telephone number is (404) 562-9141. Mr. Page can also be reached via electronic mail at page.lee@epa.gov.

SUPPLEMENTARY INFORMATION: For additional information see the final rule amendment which is published in the Rules Section of this Federal Register.

Dated: April 2, 2004.
A. Stanley Meiburg,
Acting Regional Administrator, Region 4.

[FR Doc. 04-8223 Filed 4-9-04; 8:45 am]

BILLING CODE 6560-50-P